DEPARTMENT OF THE TREASURY

Privacy Act of 1974, as Amended

AGENCY: Department of the Treasury.

ACTION: Notice of New Privacy Act System of Records.

SUMMARY: In accordance with the requirements of the Privacy Act of 1974, as amended, 5 U.S.C. 552a, the Department of the Treasury gives notice to establish a new system of records entitled “Treasury .014—Department of the Treasury User Profile Services.”

DATES: Comments must be received no later than December 17, 2012. This new system will be effective December 20, 2012 unless the Department of the Treasury receives comments that would result in a contrary determination.

ADDRESSES: Written comments should be submitted to Enterprise Content Management (ECM) c/o Office of Privacy, Transparency, and Records (PTR), Department of the Treasury, 1500 Pennsylvania Avenue NW., Washington, DC 20020. Comments can be faxed to (202) 622-4102 or emailed to ecmpmo@treasury.gov. The Department will make such comments available for public inspection and copying at the Department of the Treasury Library, 1500 Pennsylvania Avenue NW., Washington, DC 20020 on official business days between the hours of 9:00 a.m. and 5:00 p.m. Eastern Time. Persons wishing to inspect the comments submitted must request an appointment by telephoning (202) 622-0990. All comments, including attachments and other supporting materials, received are part of the public record and subject to public disclosure. You should submit only information that you wish to make available publicly.

FOR FURTHER INFORMATION CONTACT: For policy questions, contact Veronica Marco, Program Director for Privacy, Transparency, and Records at Department of the Treasury, 1500 Pennsylvania Avenue NW., Washington, DC 20020. For technical questions, contact Chakravarthy Susarla, Director of Applications & Support, at Department of the Treasury, 1500 Pennsylvania Avenue NW., Washington, DC 20020.

SUPPLEMENTARY INFORMATION: The adoption and implementation of SharePoint represents the Department of the Treasury's effort to create a system for Treasury employees, contractors, grantees, detailees, and interns with access to Treasury's Enterprise Content Management Environment to communicate in order to increase operational efficiencies. The User Profile service application stores information about users in a central location. Social computing features, such as tagging, and newsfeeds, use this information to facilitate productive interactions that enable users to collaborate efficiently. The department email directories (e.g., name, department, office phone number) auto-populate User Profile Services. In addition, the Profile Page feature gives individuals the option to provide additional information, such as skills and past projects.

The report of a new system of records, as required by 5 U.S.C. 552a(r), has been provided to the Committee on Oversight and Government Reform of the House of Representatives, the Committee on Homeland Security and Governmental Affairs of the Senate, and the Office of Management and Budget.

The proposed new system of records, entitled “Treasury .014—Department of the Treasury SharePoint User Profile Services” is published in its entirety below.

Dated: October 24, 2012.
Melissa Hartman,
Deputy Assistant Secretary for Privacy, Transparency, and Records.

Treasury/DO .014

System name:

Department of the Treasury SharePoint User Profile Services

System location:

These records are located in the Department of the Treasury's (Treasury) Office of Privacy, Transparency, and Records, and any other office within a Treasury bureau where the data was entered on the site. The locations at which the system is maintained are:

(1) a. Departmental Offices: 1500 Pennsylvania Ave. NW., Washington, DC 20220.

b. The Office of Inspector General: 740 15th Street NW., Washington, DC 20220.

c. Treasury Inspector General for Tax Administration: 1125 15th Street NW., Suite 700A, Washington, DC 20005.

d. Special Inspector General for the Troubled Asset Relief Program, 1801 L Street NW., Washington, DC 20036.

(2) Alcohol and Tobacco Tax and Trade Bureau: 1310 G Street NW., Washington, DC 20220.

(3) Office of the Comptroller of the Currency: 250 E Street NW., Washington, DC 20219-0001.

(4) Bureau of Engraving and Printing: 14th & C Streets SW., Washington, DC 20228.

(5) Fiscal Services: 401 14th Street SW., Washington, DC 20227.

(6) Internal Revenue Service: 1111 Constitution Avenue NW., Washington, DC 20224.

(7) United States Mint: 801 9th Street NW., Washington, DC 20220.

(8) Financial Crimes Enforcement Network: 2070 Chain Bridge Road, Vienna, VA 22183.

Categories of individuals covered by the system:

Treasury employees, detailees, contractors, and interns.

Categories of records in the system:

Name; name of department/office/bureau; job title; office work and cell phone numbers; work email address; office fax number; office building location; assistant/alternate point of contact (optional); phonetic name (optional); skills/experience (optional); educational background (optional); status message (optional), and photograph (optional).

Authority for maintenance of the system:

5 U.S.C. 301.

Purpose(s):

The purpose of this system is to create a central platform through which Treasury and its bureaus' employees, detailees, contractors, and interns may collaborate and exchange information in order to increase operational efficiency.

Routine uses of records maintained in the system, including categories of users and the purposes of such uses:

These records may be used to:

(1) Disclose pertinent information to appropriate federal, foreign, state, local, tribal, or other public authorities or self-regulatory organizations responsible for investigating or prosecuting the violations of, enforcing, or implementing, a statute, rule, regulation, order, or license, where the disclosing agency becomes aware of an indication of a violation or potential violation of civil or criminal law or regulation;

(2) Disclose information to a court, magistrate, or administrative tribunal in the course of presenting evidence, including disclosures to opposing counsel or witnesses in the course of civil discovery, litigation, or settlement negotiations, in response to a court order, or in connection with criminal law proceedings or mediation/alternative dispute resolution;

(3) Provide information to a congressional office in response to an inquiry made at the request of the individual to whom the record pertains;

(4) Disclose information to the United States Department of Justice for the purpose of representing or providing legal advice to Treasury in a proceeding before a court, adjudicative body, or other administrative body before which Treasury is authorized to appear, when such proceeding involves:

(A) Treasury or any component thereof;

(B) Any employee of Treasury in his or her official capacity;

(C) Any employee of Treasury in his or her individual capacity where the Department of Justice or Treasury has agreed to represent the employee;

(D) The United States, when Treasury determines that litigation is likely to affect Treasury or any of its components.

(5) Disclose information to contractors and their agents, experts, consultants, and others performing or working on a contract, service, grant, cooperative agreement, or other assignment for Treasury, when necessary to accomplish an agency function related to this system of records;

(7) Provide information to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The electronic records are stored on magnetic disc, tape, digital media, and CD-ROM.

Retrievability:

Records may be retrieved by name; department; name of office/bureau; job title; manager/supervisor; office work and cell phone; work email address; office fax number; office building location; assistant/alternate point of contact; phonetic name; skills/experience; educational background; and status message.

Safeguards:

Records in this system are safeguarded in accordance with applicable rules and policies, including all applicable Treasury automated systems security and access policies. Strict controls have been imposed to minimize the risk of compromising the information that is being stored. Access to the type and amount of data is governed by privilege management software and policies developed and enforced by federal government personnel and are determined by specific roles and responsibilities. Procedural and physical safeguards, such as personal accountability, will be utilized. Certified system management personnel are responsible for maintaining the system integrity and the data confidentiality.

Retention and disposal:

To the extent there are records identified, they will be destroyed in accordance with the appropriate disposition schedule approved by the National Archives and Records Administration. Non-record material will be removed when no longer deemed necessary by the system owner.

System Manager and address:

a. Deputy Assistant Secretary for Information Technology and Chief Information Officer, 1500 Pennsylvania Avenue NW., Washington, DC 20020;

b. Deputy Assistant Secretary for Privacy, Transparency, and Records, 1500 Pennsylvania Avenue NW., Washington, DC 20020.

Notification procedure:

Individuals seeking notification and access to any record contained in this system of records, or seeking to contest its content, may inquire in writing in accordance with instructions appearing at 31 CFR part 1, Subpart C, Appendices A-M. Requests for information and specific guidance on where to send requests for records may be addressed to: Privacy Act Request, DO, Director, Disclosure Services, Department of the Treasury, 1500 Pennsylvania Avenue NW., Washington, DC 20220.

Record access procedures:

See “Notification procedure” above.

Contesting record procedures:

See “Notification procedure” above.

Record source categories:

Records are obtained from Active Directory, Treasury employees, detailees, contractors, and interns.

Exemptions claimed for the system:

None.

[FR Doc. 2012-27698 Filed 11-14-12; 8:45 am]

BILLING CODE 4810-25-P